DEPARTMENT OF THE INTERIOR

National Park Service

Minuteman Missile National Historic Site

AGENCY: National Park Service, Interior.

ACTION: Notice of intent to prepare a draft general management plan and draft environmental impact statement for Minuteman Missile National Historic Site, South Dakota.

SUMMARY: The National Park Service (NPS) will prepare a general management plan (GMP) and an associated environmental impact statement (EIS) for Minuteman Missile National Historic Site, South Dakota, in accordance with section 102(2)(C) of the National Environmental Policy Act of 1969 (NEPA). This notice is being furnished as required by NEPA Regulations 40 CFR 1501.7.

To facilitate sound planning and environmental assessment, the NPS intends to gather information necessary for the preparation of the EIS, and to obtain suggestions and information from other agencies and the public on the scope of issues to be addressed in the EIS. Comments and participation in this scoping process are invited.

Participation in the planning process will be encouraged and facilitated by various means, including newsletters and open houses or meetings. The NPS will conduct public scoping meetings to explain the planning process and to solicit opinions about issues to address in the GMP/EIS. Notification of all such meetings will be announced in the local press and in NPS newsletters.

ADDRESSES: Written comments and information concerning the scope of the EIS, requests to be added to the project mailing list, and other matters should be directed to: Mr. William Supernaugh, Superintendent, Minuteman Missile National Historic Site, c/o Badlands National Park, P.O. Box 6, Interior, South Dakota 57750. Telephone: 605-433-5361. E-mail: mimi_information@nps.gov.

FOR FURTHER INFORMATION CONTACT: William Supernaugh, Superintendent, Minuteman Missile National Historic Site, at the address and telephone number listed above.

SUPPLEMENTARY INFORMATION: Minuteman Missile National Historic Site is located in Jackson and Pennington counties, South Dakota. Established on December 2, 1999, this is a new unit of the National Park System. Congress has required that process for preparing a general management plan for the historic site commence within three years of the date of establishment.

The Act creating Minuteman Missile National Historic Site described the site's purpose as: (1) To preserve, protect, and interpret for the benefit and enjoyment of present and future generations the structures associated with the Minuteman II missile defense system; (2) to interpret the historical role of the Minuteman II missile defense system as a key component of America's strategic commitment to preserve world peace and the broader context of the events of the Cold War; and (3) to complement the interpretive programs relating to the Minuteman II missile defense system offered by the South Dakota Air and Space Museum at Ellsworth Air Force Base.

In accordance with NPS Park Planning policy, the GMP will ensure the Historic Site has a clearly defined direction for resource preservation and visitor use. The GMP will help define what types of resource conditions, visitor uses, and management actions will best achieve the mission of the National Park Service and Minuteman Missile National Historic Site. Additionally the GMP process will address facility needs, staffing, park interpretation and activities, and maintenance. It will be developed in consultation with servicewide program managers, interested parties, and the general public. It will be based on an adequate analysis of existing and potential resource conditions and visitor experiences, environmental impacts, and costs of alternative courses of action.

The environmental review of the GMP/EIS for the Monument will be conducted in accordance with requirements of the NEPA (42 U.S.C. 4371 et seq.), NEPA regulations (40 CFR 1500-1508), other appropriate Federal regulations, and National Park Service procedures and policies for compliance with those regulations.

Dated: March 9, 2001.
Catherine A. Damon,
Acting Regional Director.

[FR Doc. 01-7378 Filed 3-23-01; 8:45 am]

BILLING CODE 4310-70-P